DEPARTMENT OF EDUCATION

Applications for New Awards; Transition Programs for Students With Intellectual Disabilities Into Higher Education

AGENCY: Office of Postsecondary Education, Department of Education.

ACTION: Notice.

SUMMARY: The Department of Education (Department) is issuing a notice inviting applications (NIA) for new awards for fiscal year (FY) 2025 for the Model Comprehensive Transition and Postsecondary Programs for Students with Intellectual Disabilities Program (TPSID), Assistance Listing Number (ALN) number 84.407A. This notice relates to the approved information collection under OMB control number 1840-0825.

DATES:

Applications Available: July 14, 2025.

Deadline for Transmittal of Applications: August 13, 2025.

Deadline for Intergovernmental Review: September 12, 2025.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs. Please note that these Common Instructions supersede the version published on December 7, 2022.

FOR FURTHER INFORMATION CONTACT: Shedita Alston, U.S. Department of Education, 400 Maryland Avenue SW, Floor 5, Washington, DC 20202-4260. Telephone: (202) 453-7090. Email: Shedita.Alston@ed.gov.

If you are deaf, hard of hearing, or have a speech disability and wish to access telecommunications relay services, please dial 7-1-1.

SUPPLEMENTARY INFORMATION:

Full Text of Announcement

I. Funding Opportunity Description

Purpose of Program: The purpose of the TPSID program is to support model demonstration programs that promote the successful transition of students with intellectual disabilities into higher education and to enable institutions of higher education (IHEs), or consortia of IHEs, to create or expand high-quality, inclusive model comprehensive transition and postsecondary programs for students with intellectual disabilities.

Priority: This notice contains one absolute priority. In accordance with 34 CFR 75.105(b)(2)(v), the absolute priority is from allowable activities specified in the statute and the Award Basis provision (see section 767(d) and 767(c)(3) of the Higher Education Act of 1965, as amended (HEA), 20 U.S.C. 1140g).

Absolute Priority: For FY 2025 and any subsequent year in which we make awards from the list of unfunded applications from this competition, this priority is an absolute priority. Under 34 CFR 75.105(c)(3), we consider only applications that meet this priority.

This priority is:

A grant recipient must use grant funds to establish a model comprehensive transition and postsecondary program for students with intellectual disabilities that—

(1) Serves students with intellectual disabilities;

(2) Provides individual supports and services for the academic and social inclusion of students with intellectual disabilities in academic courses, extracurricular activities, and other aspects of the IHE's regular postsecondary program;

(3) Provides a focus on academic enrichment, socialization, independent living skills, including self-advocacy, and integrated work experiences and career skills that lead to gainful employment;

(4) Integrates person-centered planning in the development of the course of study for each student with an intellectual disability participating in the model program;

(5) Participates with the coordinating center established under section 777(b) of the HEA in the evaluation of the components of the model program;

(6) Partners with one or more local educational agencies to support students with intellectual disabilities participating in the model program who are still eligible for special education and related services under the Individuals with Disabilities Education Act (IDEA), including the use of funds available under part B of IDEA to support the participation of such students in the model program;

(7) Plans for the sustainability of the model program after the end of the grant period; and

(8) Creates and offers a meaningful credential for students with intellectual disabilities upon the completion of the model program.

(9) Incorporates into the model comprehensive transition and postsecondary program for students with intellectual disabilities carried out under the grant one or more of the following elements:

(A) The formation of a partnership with any relevant agency serving students with intellectual disabilities, such as a vocational rehabilitation agency.

(B) In the case of an institution of higher education that provides institutionally owned or operated housing for students attending the institution, the integration of students with intellectual disabilities into the housing offered to nondisabled students.

(C) The involvement of students attending the institution of higher education who are studying special education, general education, vocational rehabilitation, assistive technology, or related fields in the model program.

Definitions: The following definitions apply to this competition. The definitions of “comprehensive transition and postsecondary program for students with intellectual disabilities” and “student with an intellectual disability” are from section 760 of the Higher Education Act of 1965, as amended (HEA) (20 U.S.C. 1140).

Children or students with disabilities means children with disabilities as defined in the IDEA or individuals defined as having a disability under Section 504 of the Rehabilitation Act of 1973 (Section 504) (or children or students who are eligible under both laws).

Comprehensive transition and postsecondary program for students with intellectual disabilities means a degree, certificate, or nondegree program that—

(1) Is offered by an IHE;

(2) Is designed to support students with intellectual disabilities who are seeking to continue academic, career and technical, and independent living instruction at an IHE in order to prepare for gainful employment;

(3) Includes an advising and curriculum structure;

(4) Requires students with intellectual disabilities to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals; and

(E) Requires students with intellectual disabilities to be socially and academically integrated with non-disabled students to the maximum extent possible.

Student with an intellectual disability means a student—

(A) With a cognitive impairment, characterized by significant limitations in—

(i) Intellectual and cognitive functioning; and

(ii) Adaptive behavior as expressed in conceptual, social, and practical adaptive skills; and

(B) Who is currently, or was formerly, eligible for a free appropriate public education under the IDEA.

Program Authority: Title VII, part D, subpart 2 of the HEA (20 U.S.C. 1140f, et seq.).

Applicable Regulations: (a) The Education Department General Administrative Regulations (EDGAR) in 34 CFR parts 75, 77, 79, 82, 84, 86, 97, 98, and 99. (b) The Office of Management and Budget Guidelines to Agencies on Governmentwide Debarment and Suspension (Nonprocurement) in 2 CFR 180, as adopted and amended as regulations of the Department in 2 CFR part 3485. (c) The Uniform Administrative Requirements, Cost Principles, and Audit Requirements for Federal Awards in 2 CFR part 200, as adopted in 2 CFR part 3474.

II. Award Information

Type of Award: Discretionary grants.

Estimated Available Funds: $11,682,000.

Contingent upon the availability of funds and the quality of applications, we may make additional awards in subsequent fiscal years from the list of unfunded applications from this competition.

Estimated Range of Awards: $100,000-$500,000.

Estimated Average Size of Awards: $432,000.

Maximum Awards: We will not make an award exceeding $500,000 for a single budget period of 12 months.

Estimated Number of Awards: 27.

Note: The Department is not bound by any estimates in this notice.

Project Period: 60 months.

III. Eligibility Information

1. Eligible Applicants: IHEs, as defined in section 101 of the HEA, or consortia of such IHEs are eligible to apply for funding.

2. a. Cost Sharing or Matching: The grantee must provide, from non-Federal funds, a matching contribution equal to at least 25 percent of the cost of the project. The match may be accrued over the full duration of the grant award period, except that the grantee must make substantial progress towards meeting the matching requirement in each year of the grant award period.

c. Indirect Cost Rate Information: The TPSID program uses a training indirect cost rate. This rate limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Guidance for Federal Financial Assistance.

3. Subgrantees: A grantee under this competition may not award subgrants to entities to directly carry out project activities described in its application.

IV. Application and Submission Information

1. Application Submission Instructions: Applicants are required to follow the Common Instructions for Applicants to Department of Education Discretionary Grant Programs, published in the Federal Register on December 23, 2024 (89 FR 104528) and available at www.federalregister.gov/documents/2024/12/23/2024-30488/common-instructions-for-applicants-to-department-of-education-discretionary-grant-programs, which contain requirements and information on how to submit an application.

2. Intergovernmental Review: This program is subject to Executive Order 12372 and the regulations in 34 CFR part 79. Information about Intergovernmental Review of Federal Programs under Executive Order 12372 is in the application package for this program. Please note that, under 34 CFR 79.8(a) at https://www.ecfr.gov/current/title-34/subtitle-A/part-79/section-79.8#p-79.8(a), we have shortened the standard 60-day intergovernmental review period in order to make awards by the end of FY 2025.

3. Funding Restrictions: We reference regulations outlining funding restrictions in the Applicable Regulations section of this notice.

4. Content and Form of Application Submission: You must include your complete response to the selection criteria and the absolute priority in the application narrative.

5. Recommended Page Limit: The application narrative is where you, the applicant, address the selection criteria that reviewers use to evaluate your application. We recommend that you (1) limit the application narrative to no more than 60 pages and (2) use the following standards:

• A “page” is 8.5″ x 11″, on one side only, with 1″ margins at the top, bottom, and both sides.

• Double-space (no more than three lines per vertical inch) all the text in the application narrative, including titles, headings, footnotes, quotations, references, captions, as well as all text in charts, tables, figures, and graphs.

• Use a font that is either 12 point or larger, and no smaller than 10-pitch (characters per inch).

• Use one of the following fonts: Times New Roman, Courier, Courier New, or Arial.

The recommended page limit does not apply to the cover sheet; the budget section; including the budget narrative; the assurances and certifications or the one-page abstract. However, the recommended page limit does apply to all of the application narrative. Please include a separate heading when responding to the absolute priority.

V. Application Review Information

1. Selection Criteria: The following selection criteria for this program are from 34 CFR 75.210. The points assigned to each criterion are indicated in parentheses. Applicants may earn up to a total of 100 points for the selection criteria.

(a) Need for project (up to 10 points).

(1) The Secretary considers the need for the proposed project.

(2) In determining the need for the proposed project, the Secretary considers the following factors:

(i) The extent to which the proposed project demonstrates the magnitude of the need for the services to be provided or the activities to be carried out by the proposed project (5 points);

(ii) The extent to which the proposed project will provide support, resources, or services; or otherwise address the needs of the target population, including addressing the needs of underserved populations most affected by the issue, challenge, or opportunity, to be addressed by the proposed project and close gaps in educational opportunity. (5 points)

(b) Significance (up to 15 points).

(1) The Secretary considers the significance of the proposed project.

(2) In determining the significance of the proposed project, the Secretary considers the following factors:

(i) The importance or magnitude of the results or outcomes likely to be attained by the proposed project, especially improvements in employment, independent living services, or both, as appropriate. (10 points)

(ii) The extent to which the proposed project involves the development or demonstration of innovative and effective strategies that build on, or are alternatives to, existing strategies. (5 points)

(c) Quality of the project design (up to 45 points).

(1) The Secretary considers the quality of the design of the proposed project.

(2) In determining the quality of the design of the proposed project, the Secretary considers the following factors:

(i) The extent to which the proposed project demonstrates that it is designed to build capacity and yield sustainable results that will extend beyond the project period. (5 points)

(ii) The extent to which the design of the proposed project reflects the most recent and relevant knowledge and practices from research and effective practice. (5 points)

(iii) The extent to which the design of the proposed project includes a thorough, high-quality review of the relevant literature, a high-quality plan for project implementation, and the use of appropriate methodological tools to enable successful achievement of project objectives. (5 points)

(iv) The extent to which performance feedback and formative data are integral to the design of the proposed project and will be used to inform continuous improvement. (5 points)

(v) The extent to which the training or professional development services to be provided by the proposed project are of sufficient quality, intensity, and duration to build recipient and project capacity in ways that lead to improvements in practice among the recipients of those services. (5 points)

(vi) The likelihood that the services to be provided by the proposed project will lead to meaningful improvements in the skills and competencies necessary to gain employment in high-quality jobs, careers, and industries or build capacity for independent living. (10 points)

(vii) The extent to which the services to be provided by the proposed project involve the use of efficient strategies, including the use of technology, as appropriate and the leveraging of non-project resources. (5 points)

(viii) The extent to which the project director or principal investigator, when hired, has the qualifications required for the project, including formal training or work experience in fields related to the objectives of the project and experience in designing, managing, or implementing similar projects for the target population to be served by the project. (5 points)

(d) Adequacy of resources (up to 15 points).

(1) The Secretary considers the adequacy of resources for the proposed project.

(2) In determining the adequacy of resources for the proposed project, the Secretary considers one or more of the following factors:

(i) The adequacy of support for the project, including facilities, equipment, supplies, and other resources, from the applicant or the lead applicant organization. (5 points)

(ii) The relevance and demonstrated commitment of each partner in the proposed project to the implementation and success of the project. (5 points)

(iii) The extent to which the budget is adequate to support the proposed project and the costs are reasonable in relation to the objectives, design, and potential significance of the proposed project. (5 points)

(e) Quality of the project evaluation (up to 15 points).

(1) The Secretary considers the quality of the evaluation or other evidence-building of the proposed project.

(2) In determining the quality of the evaluation or other evidence-building, the Secretary considers one or more of the following factors:

(i) The extent to which the methods of evaluation or other evidence-building are thorough, feasible, relevant, and appropriate to the goals, objectives, and outcomes of the proposed project. (5 points)

(ii) The extent to which the methods of evaluation or other evidence-building include the use of objective performance measures that are clearly related to the intended outcomes of the project and will produce quality data that are quantitative and qualitative. (5 points)

(iii) The extent to which the evaluation will provide guidance about effective strategies suitable for replication or testing and potential implementation in other settings. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

For this competition, a panel of non-Federal reviewers will review each application in accordance with the selection criteria in 34 CFR 75.210. The individual scores of the reviewers will be added and the sum divided by the number of reviewers to determine the peer review score received in the review process.

In a tie-breaking situation under this program, preference will be given to the applicant with the highest score under “Quality of the Project Design” criterion. If there is still a tie after implementing the first tie-breaker, preference will be given to the applicant with the highest score under the “Quality of the Management Plan” criterion. If there is still a tie after applying the secondary tie breaker, the Secretary will choose among the tied applications so as to provide for the equitable distribution of such grants to serve geographic areas that are underserved by this program.

3. Risk Assessment and Specific Conditions: Consistent with 2 CFR 200.206, before awarding grants under this competition the Department conducts a review of the risks imposed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and a record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws and regulations, and relevant Executive guidance, the Department will review and consider applications for funding pursuant to this notice inviting applications in accordance with—

(a) Selecting recipients most likely to be successful in delivering results based on the program objectives through an objective process of evaluating Federal award application (2 CFR 200.205);

(b) Prohibiting the purchase of certain telecommunication and video surveillance services or equipment in alignment with section 889 of the National Defense Authorization Act of 2019 (Pub. L. 115-232) (2 CFR 200.16);

(c) Providing a preference, to the extent permitted by law, to maximize use of goods, products, and materials produced in the United States (2 CFR 200.322); and

(d) Terminating agreements in whole or in part pursuant to the terms and conditions of the Federal award, including, to the extent authorized by law, if an award no longer effectuates the program goals and agency priorities (2 CFR 200.340).

VI. Award Administration Information

1. Award Notices: If your application is successful, we notify your U.S. Representative and U.S. Senators and send you a Grant Award Notification (GAN); or we may send you an email containing a link to access an electronic version of your GAN. We also may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250 (b), the Secretary may provide a grantee with additional funding for data collection analysis and reporting. In this case the Secretary establishes a data collection period.

5. Performance Measure: The Government Performance and Results Act of 1993 directs Federal departments and agencies to improve the effectiveness of their programs by engaging in strategic planning, setting outcome-related goals for programs, and measuring program results against those goals. The goal of the TPSID program is to support model demonstration programs that promote the successful transition of students with intellectual disabilities into higher education and to enable IHEs, or consortia of IHEs, to create or expand high-quality, inclusive model comprehensive transition and postsecondary programs for students with intellectual disabilities. To access the success of the grantee in meeting these goals, the Secretary has established the following key performance measure for assessing the effectiveness of the TPSID program: The percentage of students with intellectual disabilities who are enrolled in programs funded under TPSID who complete the programs and obtain a meaningful credential, as defined by the TPSID Program Coordinating Center established under section 777(b) of HEA and approved by the Department.

Additionally, grantees will be required to participate in evaluation activities conducted by the coordinating center established under section 777(b) of the HEA. As part of these reports and evaluation activities, grantees will be expected to work closely with the coordinating center to develop performance measures most closely aligned with activities that promote the successful transition of students with disabilities into higher education. Grantees will be asked to provide to the coordinating center information such as: (1) a description of the population of students targeted to receive assistance under the grant; (2) evidence of academic and social inclusion of students with intellectual disabilities in academic courses, extracurricular activities, and other aspects of the IHE's regular postsecondary program; (3) a description of how the model program addresses individualized student needs and improvement through person-centered planning, academic enrichment, socialization, independent living skills, and integrated work experiences and career skills; (4) a description of how the model program's partnership with one or more LEAs supports students with intellectual disabilities participating in the model program who are still eligible for funds under the IDEA; (5) plans for program sustainability beyond the grant period; (6) a detailed description of the credential offered to students with intellectual disabilities; (7) data regarding the change in enrollment of students with intellectual disabilities at the IHE; (8) data regarding persistence and completion of students with intellectual disabilities; and (9) a detailed description of measurable goals for the individual project, planned methods of achieving those goals, and progress towards meeting the goals.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application, or whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at this site, you can limit your search to documents published by the Department.

Signing Authority

This document of the U.S. Department of Education was signed on July 9, 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Sharon Cooke,
Associate Director, Office of the Executive Secretariat, Office of the Secretary, U.S. Department of Education.

[FR Doc. 2025-13143 Filed 7-11-25; 8:45 am]

BILLING CODE 4000-01-P